DEPARTMENT OF ENERGY

Federal Energy Regulatory Commission

Notice of Intent To File Application for New License

December 6, 2002.

a. Type of filing: Notice of Intent to File Application for a New License.

b. Project No.: 2107.

c. Submitted by: (1) Pacific Gas and Electric Company, filed July 2, 2002;

(2) City of Fremont, California, filed July 2, 2002;

(3) County of Butte, California, filed July 8, 2002; and

(4) Northern California Power Agency, filed July 10, 2002.

d. Date filed: see c, above

e. Name of Project: Poe Hydroelectric Project.

f. Location: On the North Fork Feather River in Butte County, near Pulga, California. The project includes 144 acres of lands of the Plumas National Forest.

g. Filed Pursuant to: 18 CFR 16.6 of the Commission's regulations.

h. Effective date of current license: October 1, 1953.

i. Expiration date of current license: September 30, 2003.

j. The project consists of: (1) The 400-foot-long, 60-foot-tall Poe Diversion Dam, including four 50-foot-wide by 41-foot-high radial flood gates, a 20-foot-wide by 7-foot-high small radial gate, and a small skimmer gate that is no longer used; (2) the 53-acre Poe Reservoir; (3) a concrete intake structure located on the shore of Poe Reservoir; (4) a pressure tunnel about 19 feet in diameter with a total length of about 33,000 feet; (5) a differential surge chamber located near the downstream end of the tunnel; (6) a steel underground penstock about 1,000 feet in length and about 14 feet in diameter; (7) a reinforced concrete powerhouse, 175-feet-long by 114-feet-wide, with two vertical-shaft Francis-type turbines rated at 76,000 horsepower connected to vertical-shaft synchronous generators rated at 79,350 kVA with a total installed capacity of 143 MW and an average annual generation of 584 gigawatt hours; (8) the 370-foot-long, 61-foot tall, concrete gravity Big Bend Dam; (9) the 42-acre Poe Afterbay Reservoir; and (10) appurtenant facilities.

k. Pursuant to 18 CFR 16.7, information on the project is available at: Pacific Gas and Electric Company, Power Generation, 245 Market Street, Room 1103, San Francisco, California, 94105. Contact Mr. John Gourley by mail at the above address or by phone at (415) 972-5772 to make an appointment to review the information.

l. FERC contact: John Mudre, (202) 502-8902 or john.mudre@ferc.gov.

m. Each application for a new license must be filed with the Commission within 18 months of the date on which it filed its Notice of Intent.

Magalie R. Salas,
Secretary.

[FR Doc. 02-31316 Filed 12-11-02; 8:45 am]

BILLING CODE 6717-01-P